DEPARTMENT OF LABOR

Employment and Training Administration

[NAFTA-04208 and NAFTA-04208A]

Progress Lighting, Cowpens, SC, and Progress Lighting, Philadelphia PA; Amended Certification Regarding Eligibility To Apply for NAFTA-Transitional Adjustment Assistance

In accordance with Section 250(a), Subchapter D, Chapter 2, Title II, of the Trade Act of 1974, as amended (19 U.S.C. 2273), the Department of Labor issued a Certification of Eligibility to Apply for NAFTA Transitional Adjustment Assistance on October 31, 2000, applicable to workers of Progress Lighting, Cowpens, South Carolina. The notice was published in the Federal Register on November 16, 2000 (65 FR 69343).

At the request of the International Brotherhood of Electrical Workers, Local 2005, the Department reviewed the certification for workers of the subject firm. The company reports that worker separations occurred at the Philadelphia, Pennsylvania location of Progress Lighting. The Philadelphia, Pennsylvania location is a distribution center for the lighting fixtures produced in Cowpens, South Carolina.

Based on these findings, the Department is amending the certification to include workers of the Philadelphia, Pennsylvania location of Progress Lighting.

The intent of the Department's certification is to include all workers of Progress Lighting Wesley Industries, Inc. affected by a shift in production of lighting fixtures to Mexico.

Accordingly, the Department is amending the certification to include workers of Progress Lighting, Philadelphia, Pennsylvania.

The amended notice applicable to NAFTA-04208 is hereby issued as follows:

All workers of Progress Lighting, Cowpens, South Carolina (NAFTA-04208) and Progress Lighting, Philadelphia, Pennsylvania (NAFTA-04208A) who became totally or partially separated from employment on or after October 6, 1999, through October 31, 2002, are eligible to apply for NAFTA-TAA under Section 250 of the Trade Act of 1974.

Signed in Washington, DC, this 25th day of July, 2002.
Edward A. Tomchick,
Director, Division of Trade Adjustment Assistance.

[FR Doc. 02-20201 Filed 8-8-02; 8:45 am]

BILLING CODE 4510-30-P